Title 3—

The President

Proclamation 8329 of December 16, 2008

Wright Brothers Day, 2008

By the President of the United States of America

A Proclamation

Our history is rich with pioneers and innovators who used their God-given talents to improve our Nation and the world. On Wright Brothers Day, we commemorate two brothers, Orville and Wilbur Wright, who took great risks and ushered in a new era of travel and discovery.

With intrepid spirits and a passion for innovation, Orville and Wilbur Wright became the first to experience the thrill of manned, powered flight. On December 17, 1903, Orville Wright flew for 12 seconds over the North Carolina sand dunes in the presence of only five people. In the span of one lifetime, our Nation has seen aviation progress from the first tentative takeoff at Kitty Hawk to an age of supersonic flight and space exploration.

On this Wright Brothers Day, we recognize all those who have taken great risks and contributed to our country's legacy of exploration and discovery. This year, we also celebrate the centennial of the world's first passenger flight. By remaining dedicated to extending the frontiers of knowledge, we can ensure that the United States will continue to lead the world in science, innovation, and technology, and build a better future for generations to come.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, GEORGE W. BUSH, President of the United States of America, do hereby proclaim December 17, 2008, as Wright Brothers Day.

IN WITNESS WHEREOF, I have hereunto set my hand this sixteenth day of December, in the year of our Lord two thousand eight, and of the Independence of the United States of America the two hundred and thirty-third.

[FR Doc. E8-30371

Filed 12-18-08; 8:45 am]

Billing code 3195-W9-P